NATIONAL SCIENCE FOUNDATION

Sunshine Act; Meetings

Agency Holding Meeting: National Science Foundation, National Science Board.

Date and Time: May 14, 2003: 10:30 a.m.-12 Noon—Open Session

Place: The National Science Foundation, 4201 Wilson Boulevard, Arlington, VA 22230, http://www.nsf.gov/nsb.

For Further Information Contact: Cathy Hines, (703) 292-7000.

Status: This meeting will be open to the public.

Matters to be Considered:

Wednesday, May 14, 2003.

Open: NSB Subcommittee on S&E Indicators, Teleconference Room 130

• Reviewer comments on Chapter 8, State S&E Indicators

Cathy Hines,
Operations Officer, NSBO.

[FR Doc. 03-11897 Filed 5-8-03; 12:26 pm]

BILLING CODE 7555-01-M